DEPARTMENT OF AGRICULTURE

Foreign Agricultural Service

Notice of Funding Availability: Inviting Applications for the Food for Progress Program

Announcement Type: New.

Catalog of Federal Domestic Assistance (CFDA) Number: 10.606.

SUMMARY: The Foreign Agricultural Service (FAS) announces it is inviting proposals for the Food for Progress (FFPr) program. The total resources available are estimated at about $160 million. The FFPr Program is administered by FAS.

DATES: All applications must be received by 5 p.m. Eastern Standard Time October 26, 2011. Applications received after this date will not be considered.

FOR FURTHER INFORMATION CONTACT: Food Assistance Division, Office of Capacity Building and Development, Foreign Agricultural Service, 1250 Maryland Avenue, Suite 400, SW., Washington, DC 20024; or by phone: (202) 720-4221; or by fax: (202) 690-0251; or by e-mail at ppded@fas.usda.gov.

SUPPLEMENTARY INFORMATION:

I. Funding Opportunity Description

A. Authority: The FFPr program is authorized by the Food for Progress Act of 1985, as amended.

B. Purpose: The FFPr program provides for the donation of U.S. agricultural commodities to developing countries and countries that are emerging democracies that have made commitments to introduce or expand free enterprise in their agricultural economies. Donated commodities are typically “monetized” (or sold on the local market), and the proceeds are used to fund agricultural development activities.

C. Objectives: For this notice, FAS is concentrating FFPr resources toward achieving two high-level objectives: (1) Increase agricultural productivity and (2) expand trade of agricultural products (domestically, regionally, and internationally). For more information on the two objectives, please see Section V of this notice.

D. Priorities: FAS will give priority consideration to otherwise acceptable applications that support results for priority countries, regions, and objectives sectors listed at: http://www.fas.usda.gov/excredits/FoodAid/FFP/FFPrPriorities.asp.

II. Award Information

A. Award Size: Grants provided under the FFPr program normally range from $5-$15 million.

B. Type of Award: All awards will be made in the form of competitive grants.

III. Eligibility Information

For eligibility requirements, see the FFPr program regulations (7 CFR 1499.3).

IV. Application and Submission Information

A. Application Content: An applicant for funding under FFPr shall submit an application that contains the information specified in 7 CFR 1499.4 which includes a completed form SF-424, an Introductory Statement, a Plan of Operation, and a proposed budget. Guidance on preparing the Introductory Statement, Plan of Operation, and a budget can be found in the proposal entry module of the Food Aid Information System (FAIS) at the following address: http://www.fas.usda.gov/fais/public. Additionally, the application shall include a plan to monitor the implementation of all program activities, a Performance Monitoring Plan, and a plan to evaluate all activities and report to FAS on the impact, in accordance with the policy found at: http://www.fas.usda.gov/excredits/FoodAid/FFP/MEPolicy.asp.

B. Method of Submission: The entire application package must be submitted electronically to FAS's online proposal entry system, the FAIS, located at http://www.fas.usda.gov/fais/public.

C. Deadline for Submission: All applications must be received by 5 p.m. Eastern Standard Time, October 26, 2011. Applications received after this date will not be considered.

D. Frequently Asked Questions: Please see the FAS Web site for frequently asked questions on applying for the Food for Progress program, available at: http://www.fas.usda.gov/excredits/FoodAid/FFP/ApplicationFAQs.asp.

V. Selecting Project Objectives and Results

A. Results Frameworks: In an effort to use scarce resources more strategically, FAS has developed two results frameworks for the FFPr program. The two frameworks correspond to the FFPr program's two high-level objectives: (1) Increase agricultural productivity and (2) expand trade of agricultural products (domestically, regionally, and internationally). Applications that do not contribute to one of these two high-level objectives will not be funded. The results frameworks are available on the FAS Web site at: http://www.fas.usda.gov/excredits/FoodAid/FFP/ResultsFrameworks.pdf.

B. Incorporating Results Into Applications: Applicants must submit an illustration(s) of a framework(s) that shows the intended results for the proposed project. The project framework(s) submitted by the applicant must be consistent with the program-level frameworks that FAS has developed. However, applicants can add or subtract results from/to the frameworks as appropriate but cannot modify any of the remaining results. Within the Introductory Statement, applicants must also provide an assessment of how the proposed project will contribute to the high-level objective(s) of the FFPr program frameworks. The assessment should focus on the country specific context for the project including key problems or barriers that limit an applicant's ability in achieving the high-level objective addressed. The assessment should provide to USDA an understanding of why the application will include results for specific portions of the frameworks and exclude results from others. The assessment will allow USDA to follow the contributions of the application in the frameworks and to make sure the application addresses key problems, barriers, or weaknesses in the country. Applicants should also list strengths in the countries or investments by other donors that explain the rationale for excluding results.

C. Additional Information: For specific guidance on how to incorporate the frameworks into a proposal and for a list of performance management indicators, please see our application guidance at: http://www.fas.usda.gov/excredits/FoodAid/FFP/FrameworkGuidance.asp.

VI. Proposal Review Criteria

A. Review Process: FAS will review all responsive proposals that are submitted by the deadline. FAS will invite comments from other U.S. Government agencies (USG) on its award recommendations, but FAS will make the final determination about which proposals to fund.

B. Criteria: FAS will review and evaluate each proposal using the following criteria:

1. Project Design and Alignment with the Solicitation (18 percent)

(a) Does the project design incorporate the solicitation's priority countries, geographic regions, and objectives?

(b) Does the application explain the need for the proposed activities?

(c) Are objectives and activities clearly defined, achievable?

(d) Does the application clearly explain how the applicant will implement the project?

(e) Does the application explain how the applicant will use its resources to assure that program objectives are met?

(f) Is the plan of operation cost-effective, given the proposed objectives and activities?

2. Indicators for Proposed Activities and FFPr Results (23 percent)

(a) Are the proposed results achievable, realistic, and meaningful?

(b) Does the application provide an illustration of the results framework for the application?

(c) Does the application include an assessment that addresses the need for specific results and the reasoning for including or excluding portions of the program frameworks?

(d) Does the application contain an estimated number of beneficiaries?

(e) Is the number of beneficiaries realistic for the proposed activities?

(f) Are the beneficiaries and criteria for selection explicit?

(g) Does the application incorporate results and corresponding indicators from the FFPr results frameworks?

(h) Does the application explain how the proposed activities directly contribute to the selected results from the FFPr results frameworks?

(i) Does the application present a comprehensive plan to monitor proposed activities and performance indicators?

(j) Does the application present a comprehensive plan to evaluate the proposed program and its impact?

3. Overall Application Quality (9 percent)

(a) Is each necessary section in the application completed?

(b) Is each section of the application consistent with the other sections?

(c) Is the application clearly written?

4. Commodity Management and Appropriateness (14 percent)

(a) Does the application demonstrate that the commodity type and tonnage are appropriate for the market and will not disrupt commercial sales?

(b) Does the applicant have a clear plan to monetize or distribute the commodity?

(c) Does participant have monetization experience or plans to hire an experienced agent?

(d) Does the application address specific country concerns, including customs exemptions, import barriers, tariffs, etc.?

(e) Does the application include port, warehouse, and handling capacity in country as it relates to the commodity, tonnage, and packaging?

5. Organizational Capability and Experience (18 percent)

(a) Does the application establish the organization's project management capability, including its ability to implement, supervise, and support projects?

(b) Does the applicant have sufficient financial management capability to implement the proposed program?

(c) Does the applicant have past experience or expertise in the program objectives and/or activities proposed?

(d) If the applicant has had programs with USDA or USAID, was this a productive collaboration with positive outcomes?

(e) Is applicant registered in country or does it offer a plan to become registered?

(f) Does the organization have experience working in the country of the proposed program?

6. In-Country Coordination (9 percent)

(a) Does the organization have a working relationship with and support from the recipient government?

(b) Did the organization work with the recipient government to develop the proposed activities?

(c) Does the application explicitly describe its coordination with published USG and host government development strategies?

(d) Does the application describe what other stakeholders (host government, USG, other donors, private sector, etc.) are already doing to address agricultural development, and explain how the proposed program will complement these activities?

(e) Does the proposed program have private and public sector support?

(f) Does the proposed program have established partnerships with and buy-in from beneficiary groups/communities?

7. Sustainability Plan/Objectives (9 percent)

(a) Does the applicant provide a satisfactory plan for continuation of projects beyond Food for Progress support? If the project is not sustainable, is there an explanation?

(b) Does the organization have a plan for securing local support (public, private, other) to maintain programming after the grant's completion?

(c) For an organization that has received previous FFPr grants, does the proposal reference sustainable activities launched under earlier agreements?

8. The following factors will reduce a proposal's score because they reflect negatively on an organization's ability to successfully implement and complete a grant agreement with USDA.

(a) FAS has terminated an agreement with the organization for violations within the last 3 years.

(b) The organization owes USDA a debt that is not covered by a payment plan or other method of resolution.

(c) The organization has submitted late or has not submitted at all two or more required reports in the last three years.

(d) The organization has not responded to FAS's deadlines for documents required to close an agreement on two or more occasions within the last 3 years.

VII. Award Administration Information

1. Award Notices: FAS will notify each applicant in writing of the final decision regarding its application. FAS will send a letter to each approved applicant that will specify the amount of funding. Once the approved applicant receives this letter, FAS will begin negotiations with the applicant to develop a grant agreement. The agreement will incorporate the details of the project as approved by FAS and in accordance with the FFPr program regulations, 7 CFR part 1499.

2. Reporting: An organization receiving funding under the FFPr program will be required to provide quarterly financial reports, semi-annual logistics and monitoring reports, a baseline study, a mid-term evaluation, and a final evaluation report, as provided in the grant agreement. All reports must be submitted using the FAIS. All organizations receiving funding will be required to report against the indicators in the agreement at each reporting cycle. Changes in the original project timelines and adjustments within project budgets must be approved by FAS prior to their implementation.

3. Monitoring and Evaluation: A program participant shall submit to FAS, in the manner specified in the agreement, an annual financial audit in accordance with 7 CFR § 1599.13(d). If FAS requires an annual financial audit with respect to a particular agreement, and FAS provides funds for this purpose, the participant shall arrange for such audit and submit it to FAS, in the manner specified in the agreement. The participant shall provide to FAS additional information or reports relating to the agreement if requested by FAS.

Signed at Washington, DC, on July 15, 2011.
Suzanne E. Heinen,
Acting Administrator, Foreign Agricultural Service.

[FR Doc. 2011-19141 Filed 7-27-11; 8:45 am]

BILLING CODE 3410-10-P